DEPARTMENT OF COMMERCE

National Oceanic and Atmospheric Administration

RIN 0648-XE485

Notice of Availability of a Draft Programmatic Environmental Assessment for Fisheries and Ecosystem Research Conducted and Funded by the National Marine Fisheries Service, Alaska Fisheries Science Center

AGENCY: National Marine Fisheries Service (NMFS), National Oceanic and Atmospheric Administration (NOAA), Commerce.

ACTION: Notice of availability of a Draft Programmatic Environmental Assessment; request for comments.

SUMMARY: NMFS announces the availability of the “Draft Programmatic Environmental Assessment (DPEA) for Fisheries and Ecosystem Research Conducted and Funded by the Alaska Fisheries Science Center (AFSC).” Publication of this notice begins the official public comment period for this DPEA. The purpose of the DPEA is to evaluate, in compliance with the National Environmental Policy Act (NEPA), the potential direct, indirect, and cumulative impacts of conducting and funding fisheries and ecosystem research in the North Pacific Ocean and the marine waters off of Alaska.

DATES: Comments must be received by no later than September 9, 2016.

ADDRESSES: Comments on the DPEA should be addressed to: DPEA Comments, c/o AFSC Director's Office, 7600 Sand Point Way NE., Building 4, Seattle, WA 98115. Comments via email may be sent to NMFS.AFSC.DPEA@noaa.gov. NMFS is not responsible for email comments sent to addresses other than the one provided here. Comments sent via email, including all attachments, must not exceed a 10-megabyte file size. A copy of the DPEA may be obtained by writing to the address specified above, telephoning the contact listed below (see FOR FURTHER INFORMATION CONTACT), or visiting the internet at: http://www.afsc.noaa.gov/dpea.html.

Documents cited in this notice may also be viewed, by appointment, during regular business hours, at the aforementioned address.

FOR FURTHER INFORMATION CONTACT: Dr. Daniel H. Ito, (206) 526-4232.

SUPPLEMENTARY INFORMATION: The Alaska Fisheries Science Center (AFSC) is the research arm of National Marine Fisheries Service (NMFS) in the Alaska region of the U.S. The AFSC conducts research and provides scientific advice to manage fisheries and conserve living marine resources in the North Pacific and marine waters off of Alaska. The AFSC provides scientific data and technical advice to a variety of management organizations and stakeholder groups, including the NMFS Alaska Regional Office, North Pacific Fishery Management Council (NPFMC), State of Alaska, Alaska coastal subsistence communities, and U.S. representatives participating in international fishery and marine mammal negotiations, as well as the fishing industry, environmental non-governmental organizations and other constituents.

NMFS has prepared the DPEA under NEPA to evaluate several alternatives for conducting and funding fisheries and ecosystem research activities as the primary Federal action. Additionally in the DPEA, NMFS evaluates a related action—also called a “connected action” under 40 CFR 1508.25 of the Council on Environmental Quality's regulations for implementing the procedural provisions of NEPA (42 U.S.C. 4321 et seq.)—which is the proposed promulgation of regulations and authorization of the take of marine mammals incidental to fisheries research under the Marine Mammal Protection Act (MMPA). Additionally, because the proposed research activities occur in areas inhabited by species of marine mammals, birds, and fish listed under the Endangered Species Act (ESA) as threatened or endangered, this DPEA evaluates activities that could result in unintentional takes of ESA-listed marine species.

The following four alternatives are currently evaluated in the DPEA:

(1) No-Action/Status Quo Alternative—Conduct Federal Fisheries and Ecosystem Research with Scope and Protocols Similar to Past Efforts

(2) Preferred Alternative—Conduct Federal Fisheries and Ecosystem Research (New Suite of Research) with Mitigation for MMPA and ESA Compliance

(3) Modified Research Alternative— Conduct Federal Fisheries and Ecosystem Research (New Suite of Research) with Additional Mitigation

(4) No Research Alternative—No Fieldwork for Federal Fisheries and Ecosystem Research Conducted or Funded by AFSC

The first three alternatives include a program of fisheries and ecosystem research projects conducted or funded by the AFSC as the primary Federal action. Because this primary action is connected to a secondary Federal action (also called a connected action under NEPA), to consider authorizing incidental take of marine mammals under the MMPA, NMFS must identify as part of this evaluation “(t)he means of effecting the least practicable adverse impact on the species or stock and its habitat.” (Section 101(a)(5)(A) of the MMPA [16 U.S.C. 1361 et seq.]). NMFS must therefore identify and evaluate a reasonable range of mitigation measures to minimize impacts to protected species that occur in AFSC research areas. These mitigation measures are considered as part of the identified alternatives in order to evaluate their effectiveness to minimize potential adverse environmental impacts. The three action alternatives also include mitigation measures intended to minimize potentially adverse interactions with other protected species that occur within the action area. Protected species include all marine mammals, which are covered under the MMPA, all species listed under the ESA, and bird species protected under the Migratory Bird Treaty Act.

NMFS is also evaluating a second type of no-action alternative that considers no Federal funding for field fisheries and ecosystem research activities. This is called the No Research Alternative to distinguish it from the No-Action/Status Quo Alternative. The No-Action/Status Quo Alternative will be used as the baseline to compare all of the other alternatives.

Potential direct and indirect effects on the environment are evaluated under each alternative in the DPEA. The environmental effects on the following resources are considered: Physical environment, special resource areas, fish, marine mammals, birds, invertebrates, and the social and economic environment. Cumulative effects of external actions and the contribution of fisheries and ecosystem research activities to the overall cumulative impact on the aforementioned resources is also evaluated in the DPEA for the three main geographic regions in which AFSC surveys are conducted.

NMFS requests comments on the DPEA for Fisheries and Ecosystem Research Conducted and Funded by the National Marine Fisheries Service, Alaska Fisheries Science Center. Through this notice, NMFS is notifying the public that a DPEA is available for review so that interested or affected people may participate and contribute to the final decision. NMFS is seeking written public comments on the scope of issues, potential impacts, and alternatives considered in the DPEA. Written comments will be accepted at the address above (see ADDRESSES). Written comments should be as specific as possible to be the most helpful. Written comments received, including the names and addresses of those submitting them, will be considered part of the public record for this proposed action and will be available for public inspection. Please include, with your comments, any supporting data or literature citations that may be informative in substantiating your comment.

Dated: August 1, 2016.
Douglas P. DeMaster,
Director, Alaska Fisheries Science Center, National Marine Fisheries Service.

[FR Doc. 2016-19002 Filed 8-9-16; 8:45 am]

BILLING CODE 3510-22-P